ENVIRONMENTAL PROTECTION AGENCY

[FRL-9976-97-OA]

Notification of a Public Meeting of the Chartered Science Advisory Board

AGENCY: Environmental Protection Agency (EPA).

ACTION: Notice.

SUMMARY: The Environmental Protection Agency (EPA) Science Advisory Board (SAB) Staff Office announces a public meeting of the chartered SAB to: (1) Conduct a quality review of a draft SAB report on an Screening Methodologies to Support Risk and Technology Reviews (RTR) for National Emissions Standards for Hazardous Air Pollutants: RTR; (2) discuss information provided by the EPA on planned actions in the 2017 semi-annual regulatory agenda and their supporting science; and (3) receive briefings from the EPA Office of Research and Development, the Office of Water, and the Office of Air.

DATES: The public meeting will be held on Thursday, May 31, 2018, from 1:00 p.m. to 5:00 p.m. and Friday June 1, 2018, from 9:00 a.m. to 1:00 p.m.

ADDRESSES: The meeting will be held at the Washington Plaza Hotel, 10 Thomas Circle NW, Washington, DC 20005.

FOR FURTHER INFORMATION CONTACT: Any member of the public who wants further information concerning the meeting may contact Mr. Thomas Carpenter, Designated Federal Officer (DFO), EPA Science Advisory Board (1400R), U.S. Environmental Protection Agency, 1200 Pennsylvania Avenue NW, Washington, DC 20460; via telephone/voice mail (202) 564-4885, or email at carpenter.thomas@epa.gov. General information concerning the SAB can be found on the EPA website at http://www.epa.gov/sab.

SUPPLEMENTARY INFORMATION:

Background: The SAB was established pursuant to the Environmental Research, Development, and Demonstration Authorization Act (ERDDAA), codified at 42 U.S.C. 4365, to provide independent scientific and technical advice to the Administrator on the scientific and technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting to discuss and deliberate on the topics below.

(1) Quality Review of a Draft SAB Review Report on the Screening Methodologies To Support Risk and Technology Reviews (RTR): A Case Study Analysis

EPA's Office of Air Quality Planning and Standards (OAQPS) requested that the SAB conduct a review of the methods for conducting Risk and Technology Review Assessments in conjunction with assessments of residual risk required by the Clean Air Act. These assessments evaluate the effects of industrial emissions of hazardous air pollutants (HAPs) on public health and the environment. The SAB convened RTR Methods Panel to review EPA's draft Screening Methodologies to Support Risk and Technology Reviews (RTR) (External Review Draft May, 2017).

The chartered SAB will conduct a quality review of the panel's draft report before it is transmitted to the EPA Administrator. The SAB quality review process ensures that all draft reports developed by SAB panels, committees or workgroups are reviewed and approved by the Chartered SAB before being finalized and transmitted to the EPA Administrator. These reviews are conducted in a public meeting as required by FACA.

Background on the current advisory activity, Screening Methodologies to Support Risk and Technology Reviews (RTR): A Case Study Analysis can be found on the SAB website at http://yosemite.epa.gov/sab/sabproduct.nsf/fedrgstr_activites/RTR%20Screening%20Methods%20Review?OpenDocument.

(2) Discussion of Information in the Agency's Semiannual Regulatory Agenda

As part of the EPA's effort to routinely inform the SAB about proposed and planned agency actions that have a scientific or technical basis, the agency provided notice to the SAB that the Office of Management and Budget published the “Unified (Regulatory) Agenda” on the Web on and available at: http://www.reginfo.gov/public/do/eAgendaMain.

The SAB convened a Work Group to review information provided in the agency's 2017 regulatory agenda regarding EPA planned actions and their supporting science. The SAB will discuss recommendations and information developed by the Work Group regarding the adequacy of the science supporting the planned actions. Information about this advisory activity can be found on the Web at: http://yosemite.epa.gov/sab/sabproduct.nsf/fedrgstr_activites/SAB%20Spring%202017%20Reg%20Agenda?OpenDocument.

Availability of Meeting Materials: A meeting agenda and other materials for the meeting will be placed on the SAB website at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the EPA's charge, meeting materials, or the group providing advice. Input from the public to the SAB will have the most impact if it provides specific scientific or technical information or analysis for the SAB to consider or if it relates to the clarity or accuracy of the technical information. Members of the public wishing to provide comment should contact the DFO directly.

Oral Statements: In general, individuals or groups requesting an oral presentation at a public meeting will be limited to five minutes. Persons interested in providing oral statements at the May 31-June 1, 2018, meeting should contact Mr. Thomas Carpenter, DFO, in writing (preferably via email) at the contact information noted above by May 22, 2018 to be placed on the list of registered speakers.

Written Statements: Written statements for the May 31-June 1, 2018, meeting should be received in the SAB Staff Office by March 22, 2018, so that the information can be made available to the SAB for its consideration prior to the meeting. Written statements should be supplied to the DFO at the contact information above via email (preferred) or in hard copy with original signature. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Mr. Carpenter at the phone number or email address noted above, preferably at least ten days prior to the meeting, to give the EPA as much time as possible to process your request.

Dated: April 12, 2018.
Khanna Johnston,
Deputy Director, EPA Science Advisory Board Staff Office.

[FR Doc. 2018-08135 Filed 4-17-18; 8:45 am]

BILLING CODE 6560-50-P